ENVIRONMENTAL PROTECTION AGENCY

[ER-FRL-6620-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. D-AFS-J65344-MT Rating EC2, Burned Area Recovery, Proposal to Reduce Fuels, Improve Watershed Conditions and Reforest Burned Lands, Sula, Darby, West Fork and Stevensville Ranger Districts, Bitterroot National Forest, Ravalli County, MT.

Summary: While EPA supports proposed watershed and road system improvements, but expressed environmental concerns about sediment production and increased water yield from fuels reduction treatment, particularly in watersheds with existing water quality impairments that were severely impacted by fire. EPA also notes the need for consistency of proposed actions with State TMDL development needs for 303(d) listed streams in the project area.

ERP No. D-AFS-L65383-ID Rating EC1, Hidden Cedar Project, Road Construction and Watershed Restoration, Idaho Panhandle National Forest, St. Joe Ranger District, Benewah, Shoshone, Clearwater and Latah Counties, ID.

Summary: EPA expressed environmental concerns about activities taking place in a watershed with impaired waters before a water quality restoration plan has been developed.

ERP No. D-BOP-E81039-00 Rating EC2, Criminal Alien Requirement (CAR) II, To Contract for a Private Contractor-Owned/Contractor-Operated Correctional Facility in Florida, Mississippi, Georgia and Alabama to House Adult-Male and Non-US Citizen, AL, FL, GA and/or MS.

Summary: EPA expressed environmental concerns regarding potential wetland impacts and Environmental Justice issues. EPA requested additional information on these issues.

ERP No. D-COE-C39015-NJ Rating EC2, Great Egg Harbor Inlet to Townsends Inlet, Storm Damage Reduction for Ocean City and Ludlam Island Utilizing Beachfill to Construct a Protective Berm and Dune, City of Ocean City, Strathmere (Township of Upper), City of Sea Isle City, Cape May County, NJ.

Summary: EPA raised concerns about potential cumulative impacts associated with the current and future Federal erosion/storm damage protection projects. EPA requested that additional information to address the issue of cumulative effects be included in the Final EIS.

ERP No. D-NPS-D61053-VA Rating EC2, Green Spring Colonial National Historical Park Management Plan, Implementation, James City County, VA.

Summary: EPA expressed environmental concerns with the loss of approximately 20 acres of forested resources, including 8 acres of forested wetlands, impacts to groundwater quality and flow that may affect a spring and an adjacent wetland. EPA suggests minimizing impacts by siting facilities on already disturbed areas to the extend practical.

ERP No. D-TVA-E05098-TN Rating EC2, Addition of Electric Generation Baseload Capacity, Proposal to Construct a Natural Gas Fired Combined Cycle Power Plant, Franklin County, TN.

Summary: EPA's concerns related to PSD and other air quality issues, water quality, and hazardous materials. EPA requested that TVA provide additional information regarding the design and use of non-fossil fuels such as renewables in their new and repowered power plants to further minimize emissions, including greenhouse cases.

ERP No. D-USN-K11105-CA Rating LO, Point Molate Property Naval Fuel Depot (NFD) for the Disposal and Reuse, Implementation, Fleet and Industrial Supply Center, City of Richmond, Contra Costa County, CA.

Summary: EPA had no objections to the preferred disposal and reuse alternative.

ERP No. DS-FAA-B51017-MA Rating EO2, Logan Airside Improvements Planning Project (EOEA #10458), Construction and Operation of a new Unidirectional Runway \14/32\, Centerfield Taxiway and Add'l Taxiway Improvements, New Information Providing Clarification of the Delay Problems, Airport Layout Plan, Federal Funding and NPDES Permit, Boston Logan Int'l Airport, Boston, MA

Summary: EPA raised environmental objections to the proposed runway expansion project due to noise impacts to low income and minority communities and questioned whether the proposed runway can accommodate aircraft projected to use the airport in the future. EPA recommended peak period pricing to help alleviate congestion at the airport.

Final EISs

ERP No. F-AFS-L65341-OR Tower Fire Recovery Project, Restoration and Salvage, Implementation, Umatilla National Forest, North Fork John Day Ranger District, Umatilla and Grant Counties, OR.

Summary: EPA expressed a lack of objections to the proposal.

ERP No. F-USN-D11030-VA Marine Corps Heritage Center (MCHC) Complex, Construction and Operation at Marine Corps Base (MCB) Quantico, VA.

Summary: EPA supports the proposed action and has determined that the FEIS adequately addresses the environmental concerns related to the preferred alternative.

ERP No. F-USN-K35041-CA Naval Station (NAVSTA) San Diego Replacement Pier and Dredging Improvements, Construction, Dredging and Dredged Material Disposal, San Diego Naval Complex, San Diego, CA.

Summary: No formal comment letter was sent to the preparing agency.

ERP No. FA-NRC-A00164-00 GENERIC—License Renewal of Nuclear Plants, Arkansas Nuclear One, Unit 1, COE Section 10 and 404 Permits, Pope County, AR (NUREG-1437).

Summary: No formal comment letter was sent to the preparing agency.

Dated: July 24, 2001.
Joseph C. Montgomery,
Director, NEPA Compliance Division, Office of Federal Activities.

[FR Doc. 01-18828 Filed 7-26-01; 8:45 am]

BILLING CODE 6560-50-P